DEPARTMENT OF TRANSPORTATION

Federal Highway Administration

AGENCY: Federal Highway Administration (FHWA), DOT.

ACTION: Notice of Availability regarding a Finding of No Significant Impact (FONSI): U.S. 421 Milton-Madison Bridge replacement.

SUMMARY: The FHWA, in coordination with the Kentucky Transportation Cabinet (KYTC) and Indiana Department of Transportation (INDOT), is issuing a Finding of No Significant Impact (FONSI) for improvement to the U.S. 421 Ohio River Bridge between Milton, KY and Madison, IN. The project is needed to improve the functionally obsolete/structurally deficient bridge; to maintain cross-river mobility and community connectivity between Milton and Madison; and to improve safety.

FOR FURTHER INFORMATION CONTACT: Federal Highway Administration, Kentucky Division: Mr. Greg Rawlings, Transportation Specialist, 330 West Broadway, Frankfort, KY 40601-1981. Greg may be contacted by phone at 502-223-6728, or by e-mail at Gregory.Rawlings@dot.gov.

The FHWA, in coordination with the Kentucky Transportation Cabinet, has determined that the preferred alternative, replacement of the historic truss superstructure with a new 40-foot wide superstructure that mimics the historic profile, will have no significant impact on the human environment. The new cross-section includes 8-foot shoulders, bike lanes, and a cantilever sidewalk. Improvements will require the bridge be closed to traffic for an estimated 12 months. During this time, a free ferry service will maintain connectivity between the two communities. Extensive Section 106 coordination resulted in a Section 106 Memorandum of Agreement. The project results in Section 4(f) impacts to the historic bridge, the public boat ramp in Milton (net benefit use), and Madison's city campground (net benefit use). A public park at the foot of the bridge in Milton will require a de minimis use if used for a construction staging area. This Finding of No Significant Impact (FONSI) is based on the Environmental Assessment (EA) which has been independently evaluated by the FHWA and determined to adequately and accurately discuss the need, environmental issues, and impacts of the proposed project and appropriate mitigation measures. It provides sufficient evidence and analysis for determining that an EIS is not required. The FHWA takes full responsibility for the accuracy, scope, and content of the EA, FONSI, and other supporting documents.

Electronic Access: An electronic copy of the EA and FONSI may be downloaded from the project Web site at http://www.mlltonmadisonbridge. corn/project-documents.aspx.

Authority: 23 U.S.C. 315; 49 CFR 1.48.

Issued on March 29, 2010.
Jose Sepulveda,
Division Administrator.

[FR Doc. 2010-7653 Filed 4-7-10; 8:45 am]

BILLING CODE 4910-22-M